DEPARTMENT OF HEALTH AND HUMAN SERVICES

Centers for Disease Control and Prevention

Disease, Disability, and Injury Prevention and Control Special Emphasis Panel (SEP): FY 2008 National Office of Public Health Genomics (NOPHG) Seed Grants

In accordance with section 10(a)(2) of the Federal Advisory Committee Act (Pub. L. 92-463), the Centers for Disease Control and Prevention (CDC) announces the aforementioned meeting:

Time and Date:

1 p.m.-5 p.m., February 11, 2008 (Closed).

1 p.m.-5 p.m., February 12, 2008 (Closed).

1 p.m.-5 p.m., February 13, 2008 (Closed).

1 p.m.-5 p.m., February 14, 2008 (Closed).

1 p.m.-5 p.m., February 15, 2008 (Closed).

1 p.m.-5 p.m., February 19, 2008 (Closed).

Place: Teleconference.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of proposals submitted in response to the FY 2008 NOPHG Seed Grants announcement.

Contact Person for More Information: Brenda Colley Gilbert, Director, Extramural Research Program Office, Coordinating Center for Health Promotion, CDC, 1600 Clifton Road, NE., Mailstop K92, Atlanta, GA 30333, Telephone (770) 488-8390.

The Director, Management Analysis and Services Office, has been delegated the authority to sign Federal Register notices pertaining to announcements of meetings and other committee management activities, for both CDC and the Agency for Toxic Substances and Disease Registry.

Dated: January 18, 2008.
Diane Allen,
Acting Director, Management Analysis and Services Office, Centers for Disease Control and Prevention.

[FR Doc. E8-1274 Filed 1-24-08; 8:45 am]

BILLING CODE 4163-18-P